DEPARTMENT OF HEALTH AND HUMAN SERVICES

National Institutes of Health

National Institute on Drug Abuse; Amended Notice of Meeting

Notice is hereby given of changes in the meeting of the National Institute on Drug Abuse Special Emphasis Panel, February 6, 2014, 10:00 a.m. to February 6, 2014, 12:00 p.m., National Institutes of Health, Neuroscience Center, 6001 Executive Boulevard, Rockville, MD 20852, which was published in the Federal Register on January 10, 2014, 79, 8 FRN2014-00301.

The date of the meeting is changed to February 11, 2014. The meeting is closed to the public.

Dated: January 28, 2014.
Michelle Trout,
Program Analyst, Office of Federal Advisory Committee Policy.

[FR Doc. 2014-02103 Filed 1-31-14; 8:45 am]

BILLING CODE 4140-01-P